DEPARTMENT OF TRANSPORTATION

Surface Transportation Board

[STB Finance Docket No. 35225]

San Benito Railroad LLC—Acquisition Exemption—Certain Assets of Union Pacific Railroad Company

San Benito Railroad, LLC (San Benito), a noncarrier, has filed a verified notice of exemption under 49 CFR 1150.31 to acquire from Union Pacific Railroad Company (UP) certain railroad assets, including approximately 12.43 miles of rail line extending between approximately milepost 0.07 and approximately milepost 12.50 in the county of San Benito, CA.¹ According to a map provided by San Benito, the line extends from near Hollister to near Carnardero.

¹ In the transaction, UP does not transfer to San Benito the right or obligation to conduct common carrier freight operations. UP currently conducts and will continue to conduct common carrier freight operations over the rail line, retaining an exclusive and perpetual freight operating easement.

The transaction is scheduled to take place in June 2009 or later (after the April 26, 2009 effective date of the exemption).

If the notice contains false or misleading information, the exemption is void ab initio.² Petitions to reopen the proceeding to revoke the exemption under 49 U.S.C. 10502(d) may be filed at any time. The filing of a petition to revoke will not automatically stay the transaction. Petitions for stay must be filed no later than April 17, 2009 (at least 7 days before the exemption becomes effective).

² A motion to dismiss has been filed in this proceeding. The motion will be addressed in a subsequent Board decision.

An original and 10 copies of all pleading, referring to STB Finance Docket No. 35225, must be filed with the Surface Transportation Board, 395 E Street, SW., Washington, DC 20423-0001. In addition, a copy of each pleading must be served on Janie Shang, K&L Gates LLP, 1601 K Street, NW., Washington, DC 20006.

Board decisions and notices are available on our Web site at http://www.stb.dot.gov.

Decided: April 6, 2009.
By the Board, Joseph H. Dettmar, Acting Director, Office of Proceedings.
Kulunie L. Cannon,
Clearance Clerk.

[FR Doc. E9-8076 Filed 4-9-09; 8:45 am]

BILLING CODE 4915-01-P